DEPARTMENT OF HOUSING AND URBAN DEVELOPMENT

[Docket No. FR-6469-N-01]

National Standards for the Physical Inspection of Real Estate, Carbon Monoxide Detection Requirements, and Smoke Alarm Requirements: Implementation Guidance and Inspection Standards for the Housing Opportunities for Persons With AIDS Program

AGENCY: Office of the Assistant Secretary for Community Planning and Development, U.S. Department of Housing and Urban Development (HUD).

ACTION: Notice.

SUMMARY: This notice serves as a complementary document to the Economic Growth Regulatory Relief and Consumer Protection Act: Implementation of National Standards for the Physical Inspection of Real Estate (NSPIRE) rule published May 11, 2023. The NSPIRE rule provided that HUD's Office of Community Planning and Development (CPD) would publish an additional notice on the NSPIRE Standards for the Housing Opportunities for Persons With AIDS (HOPWA) program. HUD is providing implementation guidance on NSPIRE physical inspection standards for the HOPWA program to accompany the NSPIRE rule through this notice. This notice provides guidance to HOPWA grantees on how to inspect HOPWA-assisted units for compliance with the NSPIRE rule, and how to ensure corrections are made, if needed. This notice also provides guidance on statutory requirements that require grantees to ensure each dwelling unit assisted under the HOPWA program contains installed qualifying carbon monoxide (CO) alarms or detectors and smoke alarms.

DATES: HUD's NSPIRE final rule for CPD programs was effective October 1, 2023. In accordance with HUD's Federal Register notice published at 89 FR 55645, the compliance date was extended until October 1, 2025; however, this notice further extends the compliance date for HOPWA grantees to comply with the HOPWA NSPIRE standards elaborated in this notice until February 2, 2026. HOPWA grantees do not need to wait until the compliance date to update their policies and procedures and begin inspecting units in accordance with these standards. HOPWA grantees were expected to be in compliance with statutory requirements at 42 U.S.C. 12905(i) and (j) as of December 27, 2022, and December 29, 2024, respectively.

FOR FURTHER INFORMATION CONTACT: Amy Shivickas, Deputy Director, Room 7248, Department of Housing and Urban Development, 451 Seventh Street SW, Washington, DC 20410-7000; telephone (202) 402-2420. (This is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION:

I. Purpose

This notice serves as a complementary document to the NSPIRE rule (88 FR 30442). The NSPIRE rule establishes a new approach to defining and assessing housing quality. The NSPIRE rule is part of a broad revision of the way HUD-assisted housing is inspected and evaluated. The purpose of NSPIRE is to strengthen HUD's physical condition standards and improve HUD oversight through the alignment and consolidation of the inspection regulations used to evaluate HUD housing across multiple programs.

In the preamble to the NSPIRE rule, HUD explained that CPD would issue separate notices for the individual CPD programs, including the HOPWA program. The purpose of this notice is to provide the primary implementation guidance for HOPWA. To the extent CPD determined it would be practicable for the HOPWA program, this notice is designed to align with the implementation guidance and inspection standards HUD published in the NSPIRE Standards notice, the NSPIRE Scoring notice, and the NSPIRE Administrative notice for the Public Housing and Section 8 programs. Other than as stated in this notice, however, those “Subordinate Notices” are not applicable to the HOPWA program.

This notice rescinds notice CPD-22-15, Carbon Monoxide Alarms or Detectors in Housing Opportunities for Persons With AIDS (HOPWA)-Assisted Housing, and provides implementation guidance for carbon monoxide (CO) alarms or detectors HOPWA-assisted housing. The guidance provided in notice CPD-22-15 that remains applicable is incorporated into this notice. For housing activities subject to the HOPWA Housing Quality Standards (HQS) at 24 CFR 574.310(b), this notice provides updated guidance for implementation of CO detection requirements.

This notice also alerts grantees to a related and important new statutory requirement for smoke alarms under the HOPWA program. Under the new statutory requirement, grantees are responsible for ensuring each dwelling unit assisted under the HOPWA program contains qualifying smoke alarms installed in accordance with applicable codes and standards published by the International Code Council or the National Fire Protection Association and the requirements of the National Fire Protection Association Standard 72, or any successor standard, in each level and in or near each sleeping area in such dwelling unit, including in basements but excepting crawl spaces and unfinished attics, and in each common area in a project containing such a dwelling unit. For housing activities subject to the HOPWA Housing Quality Standards (HQS) at 24 CFR 574.310(b), this notice provides guidance for implementation of smoke alarm requirements.

II. The HOPWA NSPIRE Standards

The NSPIRE standards applicable to the HOPWA program (the “HOPWA NSPIRE Standards”) for this notice are available in the docket for this notice at www.regulations.gov.

III. NSPIRE Applicability to the HOPWA Program

The NSPIRE rule updated the HOPWA regulations at 24 CFR 574.310 to require all housing assisted with acquisition, rehabilitation, conversion, lease, and repair of facilities to provide housing and services (24 CFR 574.300(b)(3)); new construction (24 CFR 574.300(b)(4)); project or tenant-based rental assistance (24 CFR 574.300(b)(5)); and operating costs (24 CFR 574.300(b)(8)) to generally meet the standards for HUD housing in 24 CFR 5.703. NSPIRE requirements at 24 CFR 5.705 through 5.713 do not apply to the HOPWA program.

IV. Effective and Extended Compliance Date

The regulatory changes made under the NSPIRE rule took effect on October 1, 2023. However, as provided by HUD's notice “Economic Growth Regulatory Relief and Consumer Protection Act: Implementation of National Standards for the Physical Inspection of Real Estate (NSPIRE); Extension of Compliance Date for HCV, PBV and Section 8 Moderate Rehab and CPD Programs” (89 FR 55645), grantees may continue using HOPWA housing quality standards, as previously defined in 24 CFR 574.310 until October 1, 2025. Grantees are encouraged to implement HOPWA NSPIRE standards as soon as feasible but must comply with HOPWA NSPIRE standards no later than October 1, 2025. If a grantee implements the NSPIRE rule and the HOPWA NSPIRE standards before October 1, 2025, the grantee must document the chosen compliance date in program records.

However, the following exceptions apply:

1. As of December 27, 2022, all units assisted under the HOPWA program (including units occupied by families receiving short-term rent, mortgage, and utility (STRMU) and permanent housing placement (PHP) assistance) must meet the applicable carbon monoxide (CO) detection standards as explained in this notice. On December 8, 2022, HUD published notice CPD-22-15, Carbon Monoxide Alarms or Detectors in Housing Opportunities for Persons With AIDS (HOPWA)-Assisted Housing, that addresses CO poisoning risks in housing, identifies resources for preventing and detecting CO exposure, and alerted grantees to the new statutory CO detection requirement under the HOPWA program. This notice rescinds notice CPD-22-15 and updates CO detection requirements for the HOPWA program. On June 22, 2023, HUD established CO detection standards for units and inside area in the NSPIRE inspection standards notice (88 FR 40832). Those CO detection standards took the place of the standards provided under chapters 9 and 11 of the 2018 International Fire Code for purposes of all units assisted under the HOPWA program (including units occupied by families receiving STRMU and PHP assistance). To make things easier for HOPWA grantees, the HOPWA NSPIRE standards HUD is providing under this notice for CO detection reflect the same CO detection standards HUD provided for units and inside area under the NSPIRE inspection standards notice (88 FR 40832).

2. As of December 29, 2024, all units assisted under the HOPWA program (including units occupied by families receiving STRMU and PHP assistance) must also meet the applicable smoke alarm standards required by Public Law 117—328 (2022). To make things easier for HOPWA grantees, the HOPWA NSPIRE standards HUD is providing under this notice for smoke detection reflect the same smoke alarm standards HUD provided for units and inside area under the NSPIRE inspection standards notice (88 FR 40832).

3. A housing unit that continues to meet the HOPWA housing quality standards that applied when the eligible person(s) moved into that housing unit shall not be required to meet new or different standards under 24 CFR 5.703. However, if any new eligible person(s) move into the housing during the period the grantee must comply or elects to comply with the HOPWA NSPIRE standards, the housing will be required to meet the HOPWA NSPIRE standards described in this notice.

V. HOPWA NSPIRE Standards

This section provides further guidance on the requirements in 24 CFR 5.703 as it applies to the HOPWA program. The section lays out the affirmative requirements in 24 CFR 5.703, discusses the health and safety categories utilized in the regulations at 24 CFR 574.310, reminds HOPWA grantees of the obligation to follow lead-based paint requirements, and clarifies the obligation to follow state and local codes.

A. Affirmative Requirements

Affirmative requirements are the basic requirements that must be met for HOPWA housing assistance to be provided. The NSPIRE rule provides the minimum, or affirmative, habitability requirements for each inspectable area (inside, outside, unit) at 24 CFR 5.703(b) through (d). The HOPWA NSPIRE Standards further clarify these affirmative requirements. Affirmative requirements are designated as pass or fail during an inspection and will also have specific deficiencies, as contained in the HOPWA NSPIRE Standards. Housing that does not meet or continue to meet the affirmative requirements for each inspectable area would not pass an inspection and therefore would not be eligible for occupancy with HOPWA assistance. If possible, HOPWA grantees and project sponsors should work with the landlord or homeowner to correct any deficiencies during the inspection to facilitate move-in or continued occupancy of the unit. The affirmative requirements for each inspectable area applicable to the HOPWA program under 24 CFR 5.703 are as follows:

Inside (24 CFR 5.703(b))

1. The inside area must include at least one battery-operated or hard-wired smoke detector, in proper working condition, on each level of the property. The final NSPIRE standards for smoke alarms are included in the HOPWA NSPIRE Standards in Table 48.

2. The inside area must meet the carbon monoxide detection standards in the HOPWA NSPIRE Standards in Table 4 of the attached HOPWA NSPIRE standards.

3. For the inside area, any outlet installed within 6 feet of a water source must be ground-fault circuit interrupter (GFCI) protected. Further explanation of this affirmative requirement can be found at Table 15 of the HOPWA NSPIRE Standards.

4. The inside area must have a guardrail when there is an elevated walking surface with a drop off of 30 inches or greater measured vertically. Further explanation of this affirmative requirement can be found at Table 28 of the HOPWA NSPIRE Standards.

5. The inside area must have permanently mounted light fixtures in any kitchens and each bathroom. Further explanation of this affirmative requirement can be found at Table 37 of the HOPWA NSPIRE Standards.

6. The inside area may not contain unvented space heaters that burn gas, oil, or kerosene. Further explanation of this affirmative requirement can be found at Table 30 of the HOPWA NSPIRE Standards.

Outside (24 CFR 5.703(c))

1. For the outside area, outlets within 6 feet of a water source must be GFCI protected. Further explanation of this affirmative requirement can be found at Table 15 of the HOPWA NSPIRE Standards.

2. The outside area must have a guardrail when there is an elevated walking surface with a drop off of 30 inches or greater measured vertically. Further explanation of this affirmative requirement can be found at Table 28 of the HOPWA NSPIRE Standards.

Unit (24 CFR 5.703(d))

1. The unit must have hot and cold running water in both the bathroom and kitchen, including an adequate source of safe drinking water in the bathroom and kitchen. Further explanation of this affirmative requirement can be found at Table 47 of the HOPWA NSPIRE Standards.

2. The unit must include its own bathroom or sanitary facility that is in proper operating condition and usable in privacy. It must contain a sink, a bathtub or shower, and an interior flushable toilet. Further explanation of this affirmative requirement can be found at Table 1, Table 47, and Table 52 of the HOPWA NSPIRE Standards.

3. The unit must meet the below standards and follow the specifications of National Fire Protection Association (NFPA) 72 to satisfy the affirmative requirements for smoke alarms.

a. The unit must include at least one battery-operated or hard-wired smoke alarm, in proper working condition, in the following locations:

i. On each level of the unit.

ii. Inside each bedroom.

iii. Within 21 feet of any door to a bedroom measured along a path of travel.

iv. Where a smoke detector installed outside a bedroom is separated from an adjacent living area by a door, a smoke detector must also be installed on the living area side of the door.

b. If the unit is occupied by any hearing-impaired person, the smoke detectors must have an alarm system designed for hearing-impaired persons.

c. Additional affirmative requirement standards for smoke detectors have been set in the NSPIRE Standards notice. The same standards are included in the HOPWA NSPIRE Standards in Table 48.

4. The unit must have a living room and kitchen area with a sink, cooking appliance, refrigerator, food preparation area, and food storage area. Further explanation of this affirmative requirement can be found at Table 2, Table 8, Table 24, Table 43, and Table 47 of the HOPWA NSPIRE Standards.

5. The unit must meet the carbon monoxide detection standards in the HOPWA NSPIRE Standards in Table 4.

6. The unit must have two working outlets or one working outlet and a permanent light fixture within all habitable rooms. Further explanation of this affirmative requirement can be found at Table 38 of the HOPWA NSPIRE Standards.

7. Outlets within 6 feet of a water source must be GFCI protected. Further explanation of this affirmative requirement can be found at Table 15 of the HOPWA NSPIRE Standards.

8. For climate zones designated by the Secretary through notice, the unit must have a permanently installed heating source. No units may contain unvented space heaters that burn gas, oil, or kerosene. The HOPWA NSPIRE Standards adopt the requirements in the NSPIRE Standards notice where HUD requires permanent heating sources in all locales except for Hawaii, Puerto Rico, Guam, U.S. Virgin Islands, American Samoa, and the Commonwealth of Northern Mariana Islands; this follows the International Energy Conservation Code (IECC). Those localities where permanent heating sources will not be required are Tropical (per IECA designation). Further explanation of this affirmative requirement can be found at Table 30 of the HOPWA NSPIRE Standards.

9. The unit must have a guardrail when there is an elevated walking surface with a drop off of at least 30 inches or greater measured vertically. Further explanation of this affirmative requirement can be found at Table 28 of the HOPWA NSPIRE Standards.

10. The unit must have a permanently mounted lighting fixture in the kitchen and each bathroom. Further explanation of this affirmative requirement can be found at Table 37 of the HOPWA NSPIRE Standards.

B. Health and Safety Concerns

In accordance with 24 CFR 5.703(e), the inside, outside, and unit must be free of health and safety hazards that pose a danger to residents. HOPWA grantees and project sponsors must inspect housing for health and safety deficiencies through the HOPWA NSPIRE Standards.

The HOPWA NSPIRE Standards incorporate the following Health and Safety categories as provided through the NSPIRE Standards notice: Life-threatening, Severe, Moderate, and Low. These health and safety categories help establish correction timelines for each deficiency. Life-threatening deficiencies must be corrected within 24 hours after notice has been provided to the landlord or owner. Severe deficiencies must be corrected within 30 days or the approved extension after notice has been provided to the landlord or owner. Moderate deficiencies must be corrected within 30 days or the approved extension after notice has been provided to the landlord or owner. Low deficiencies, even if present will not result in a fail. Low deficiencies should be corrected within 60 days or a correction timeframe determined by grantee policies and procedures after notice has been provided to the landlord or owner.

All grantees must establish policies and procedures for housing inspections to ensure compliance with the requirements outlined in this notice. Grantees should consider local housing codes when establishing a correction timeframe in policies and procedures. HOPWA grantees may choose to shorten the established correction timelines for a deficiency. However, grantees should not allow longer correction timelines than established in the HOPWA NSPIRE standards without documented justification and policies and procedures that support longer correction timelines. Longer correction timelines are only permissible with documented justification for Severe, Moderate, and Low deficiencies. Under no circumstance should a HOPWA-assisted household remain in a unit with an identified life-threatening deficiency that has not been corrected within 24 hours of notification.

If a Life-Threatening, Severe, or Moderate deficiency is not corrected within the timeframe provided to the landlord or owner, this would be considered a failed inspection and the HOPWA grantee or project sponsor should take action in accordance with the rental assistance payment agreement, which can include withholding or abatement of assistance payments, terminations, or relocations. HOPWA grantees and project sponsors may use the housing information services budget line item to assist the household in locating a new unit and the permanent housing placement budget line item for security deposits or other move-in fees. HOPWA grantees should ensure policies and procedures are updated for circumstances where a unit does not pass inspection.

C. Lead-Based Paint

In accordance with 24 CFR 5.703(e)(2) and 24 CFR 574.635, HOPWA grantees and project sponsors shall continue to comply with the requirements and timelines in 24 CFR part 35. The NSPIRE rule did not alter any of the lead-based paint requirements in part 35 for the HOPWA program.

D. Compliance With State and Local Codes

In accordance with 24 CFR 5.703(f), the NSPIRE standards for the condition of HUD housing do not supersede State and local codes (such as fire, mechanical, plumbing, carbon monoxide, property maintenance, or residential code requirements). As provided in 24 CFR 574.310(b)(1), all HOPWA-assisted units must also comply with State or local housing codes to pass an inspection. During the inspection of HOPWA-assisted units, HOPWA grantees must verify that the housing complies with all applicable State and local housing codes, licensing requirements, and any other applicable state or local requirements regarding the condition of the structure and the operation of the housing.

VI. Clarification on Standards for Single Room Occupancy Dwellings

A Single Room Occupancy (SRO) is an eligible type of HOPWA housing subject to the NSPIRE rule and the housing quality standards at 24 CFR 574.310(b). SRO means a single-room dwelling unit that provides private living and sleeping space for the exclusive use of the occupant, but that contains no sanitary facilities or food preparation facilities, or contains either, but not both, types of facilities. An SRO unit may not be occupied by more than one individual.

SROs assisted with acquisition, rehabilitation, conversion, lease, and repair of facilities to provide housing and services (24 CFR 574.300(b)(3)); new construction (24 CFR 574.300(b)(4)); project or tenant-based rental assistance (24 CFR 574.300(b)(5)); or operating costs (24 CFR 574.300(b)(8)) are only required to comply with 24 CFR 5.703(d), which outlines affirmative requirements for the unit, to the extent that those components exist within the unit.

For example, in cases where there are no sanitary facilities or food preparation facilities, SRO units are not required to comply with 24 CFR 5.703(d)(1) which requires that the unit must have hot and cold running water in both the bathroom and kitchen, including an adequate source of safe drinking water in the bathroom and kitchen, nor does the requirement at 24 CFR 5.703(d)(4) that the unit contain a kitchen area with a sink, cooking appliance, refrigerator, food preparation area, and food storage area apply. In addition, the same exception applies to 24 CFR 5.703(d)(2) which requires the unit to include its own bathroom or sanitary facility—containing a sink, a bathtub or shower, and an interior flushable toilet—that is in proper operating condition and usable in privacy. However, if the SRO unit has sanitary facilities and/or a kitchen, the HOPWA NSPIRE standards apply to those components.

VII. Variation Allowability

HOPWA grantees have the option to propose a housing variation and receive HUD approval for housing that is unable to meet the affirmative requirements in 24 CFR 5.703 and/or the HOPWA NSPIRE standards. Variations must be approved by HUD before HOPWA assistance can be provided to a housing unit covered by a proposed variation. Grantees must maintain a record of the approved variation and document when the approved variation is used in client files.

To apply for a variation, grantees must send an email with the below justification to the Community Planning and Development Director of the HUD Field Office serving the grantee. Proposed variations must be submitted with the following justification:

• The grantee must include the requestor's name, title, and contact information.

• The grantee must provide written justification why a variation to the affirmative requirements in 24 CFR 5.703 and/or the HOPWA NSPIRE standards is required to provide HOPWA housing assistance and how the variation will continue to make available housing that is functionally adequate, operable, and free of health and safety hazards.

• The grantee must identify the specific units covered by the variation. This should include the number of housing units, household size the unit is able to support, and type of housing. Types of housing could include shared housing, manufactured housing, or a community residence. The address of the unit should not be included in the request.

• The grantee must submit policies and procedures documenting the housing variation and the housing inspection standards to be used for the proposed variation.

VIII. Inspection Process

The inspection process for both initial and recurring annual inspections should follow the same basic process to ensure that all HOPWA-assisted households live in safe, habitable dwellings. The party responsible for the inspection (grantee, project sponsor, contracted third party vendor) will complete thorough inspections of the inspectable areas defined at 24 CFR 5.703(b) through (d) and 24 CFR 574.310(b)(2)(i) to include items and components located inside the building, outside the building, and within the unit. The responsible party will ensure that the inspectable areas meet all affirmative requirements in accordance with 24 CFR 5.703 and Section V.A. “Affirmative Requirements” of this notice. If a unit does not meet all affirmative requirements, then the unit is not eligible for HOPWA housing assistance.

The responsible party will also be required to ensure that there are no deficiencies in the inspectable areas beyond the affirmative requirements. In each inspectable area, the responsible party is required to inspect for all deficiencies listed in the HOPWA NSPIRE standards. If deficiencies are cited during an inspection, then the responsible party must provide notification to the landlord or homeowner of the deficiency and the correction timeframe to address the deficiency for the unit to begin or continue receiving HOPWA housing assistance. The potential deficiencies and the correction timeframes to address them can be found in the HOPWA NSPIRE standards. The HOPWA NSPIRE standards include both deficiencies and affirmative requirements and should be used as a guide when conducting any HOPWA unit inspection.

For a unit to pass an inspection and be eligible to receive HOPWA funding, all affirmative requirements must be met and any cited deficiencies (life-threatening, severe, or moderate) must be corrected within the correction timeframe or the approved extension. HOPWA assistance must not be provided to a new unit that does not meet the affirmative requirements or has an identified life-threatening deficiency prior to a family moving into the unit. If deficiencies are identified in the initial inspection, it may cause the unit to temporarily fail the inspection while the deficiencies are addressed. Deficiencies that are not corrected within the correction timeframe or approved extension would be cause for a unit to fail the inspection and no longer be eligible to continue receiving HOPWA funding. HOPWA funding can continue to be provided to occupied HOPWA-assisted units during a correction timeframe or approved extension while a deficiency or affirmative requirement is being addressed. For units that are not currently occupied and being inspected prior to assistance, HOPWA grantees and project sponsors should establish policies and procedures on when HOPWA funding can begin assisting a unit that is correcting a deficiency within the correction timeline or approved extension.

Grantees and project sponsors are allowed to utilize virtual inspections to meet HOPWA NSPIRE inspection requirements. Remote or virtual inspections by proxy are allowed; however, staff must be trained on how to conduct HOPWA NSPIRE inspections virtually. HOPWA NSPIRE inspections may be conducted on behalf of a grantee or project sponsor by a proxy using video streaming technology; in these cases, there must be a written agreement kept on file by the grantee and project sponsor. The proxy can be the landlord, property representative, tenant, or any adult associated with the eventual tenancy of the unit. The grantee must ensure there are written policies and procedures established for virtual inspections and staff are properly trained prior to virtual inspections occurring.

IX. Frequency of Inspections

All housing assisted with acquisition, rehabilitation, conversion, lease, and repair of facilities to provide housing and services (24 CFR 574.300(b)(3)); new construction (24 CFR 574.300(b)(4)); project or tenant-based rental assistance (24 CFR 574.300(b)(5)); and operating costs (24 CFR 574.300(b)(8)) must be inspected prior to a household moving in and HOPWA funds being used. The grantee must also establish policies and procedures that provide reasonable assurance that each housing unit continues to meet the HOPWA NSPIRE standards throughout the period for which the grantee expends HOPWA funds with respect to that unit. Accordingly, HUD recommends that grantees and project sponsors conduct inspections on an annual basis.

X. Paying for Inspections

HOPWA grantees and project sponsors are encouraged to review their current HOPWA housing assistance program budget to ensure there is funding available for training, learning opportunities, and potential additional staffing to prepare for and conduct HOPWA NSPIRE inspections. HOPWA grantees and project sponsors may bill staff time and costs associated with preparing for, scheduling, collecting, completing, and following up with landlords and assisted households about inspections from the HOPWA housing assistance budget line for the type of housing assistance being provided. HOPWA grantees and project sponsors may also bill staff time for training and preparation to ensure staff are able to implement the new HOPWA NSPIRE requirements; these training and preparation costs may be allocated to the budget line item(s) applicable to the new requirements. Staff time associated with policy and procedure updates may be billed to administrative costs (See 24 CFR 574.300(b)(10) and 574.3).

For compliance with CO detection requirements, HOPWA grantees and project sponsors may bill staff time spent conducting landlord outreach and education on the CO detector and alarm requirements, performing inspections to assess for compliance with the requirements, and/or assessing for and self-certifying compliance with the requirements to the applicable housing assistance line item. HOPWA grantees and project sponsors may bill housing information services for staff time spent conducting outreach and education on CO detectors and alarms to HOPWA-assisted households (See 24 CFR 574.300(b)(1)).

For compliance with smoke alarm requirements, HOPWA grantees and project sponsors may bill staff time spent conducting landlord outreach and education on the smoke alarm requirements, performing inspections to assess for compliance with the requirements, and/or assessing for and self-certifying compliance with the requirements to the applicable housing assistance line item. HOPWA grantees and project sponsors may bill housing information services for staff time spent conducting outreach and education on smoke alarms to HOPWA-assisted households (See 24 CFR 574.300(b)(1)).

XI. Clarification on Carbon Monoxide Alarms or Detectors

Section 101 of Title I of Division Q of the Consolidated Appropriations Act, 2021, Public Law 116-260, div. Q, title I, § 101 (2020) amended the program legislation for various HUD programs, including the HOPWA program, to require CO alarms or detectors in certain Federally assisted dwelling units as of December 27, 2022.

Section 101(e) of the Act amends section 856 of the AIDS Housing Opportunity Act (42 U.S.C. 12905) to add the following new responsibility for HOPWA grantees:

(i) Carbon monoxide alarms.

Each dwelling unit assisted under [the HOPWA program] shall contain installed carbon monoxide alarms or detectors that meet or exceed—

(1) the standards described in chapters 9 and 11 of the 2018 publication of the International Fire Code, as published by the International Code Council; or

(2) any other standards as may be adopted by the Secretary, including any relevant updates to the International Fire Code, through a notice published in the Federal Register.

This Notice updates the standards for CO detection in HOPWA-assisted units. For housing activities subject to the HOPWA Housing Quality Standards (HQS) at 24 CFR 574.310(b) (acquisition, rehabilitation, conversion, lease, and repair of facilities; new construction; project- or tenant-based rental assistance; and operating costs), grantees and project sponsors should apply the HOPWA NSPIRE Standards for CO detection in Table 4 of the attached standards.

For housing activities not subject to HQS requirements (STRMU and PHP), grantees and project sponsors should still apply the HOPWA NSPIRE standards for CO Alarms in Table 4, but may rely on the self-certification of the tenant or owner that the dwelling unit meets the CO detection requirements, provided that the grantee or project sponsor develops and provides training, a standard checklist, or other reasonable procedures to make sure the owner or tenant understands and applies the applicable criteria when making the self-certification that CO alarms or detectors are installed as required. The self-certification should be kept in the assisted household's file and document the method(s) used to confirm the presence of CO detection in the unit.

However, neither the statutory requirement nor this notice preempts or limits the applicability of any State or local law that imposes more stringent standards relating to the installation and maintenance of CO alarms or detectors in housing.

XII. Clarification on Qualifying Smoke Alarms

Section 601 of Title VI of Division AA of the Consolidated Appropriations Act, 2023, Public Law 117-328 (2022) amended the statutes for various HUD programs, including the HOPWA program, to require qualifying smoke alarms in assisted dwelling units as of December 29, 2024.

Section 601(d) amends Section 856 of the AIDS Housing Opportunity Act (42 U.S.C. 12905) to add the following new responsibility for HOPWA grantees: Each dwelling unit assisted under this chapter shall contain qualifying smoke alarms that are installed in accordance with applicable codes and standards published by the International Code Council or the National Fire Protection Association and the requirements of the National Fire Protection Association Standard 72, or any successor standard, in each level and in or near each sleeping area in such dwelling unit, including in basements but excepting crawl spaces and unfinished attics, and in each common area in a project containing such a dwelling unit. It also defines a qualifying smoke alarm. The term “qualifying smoke alarm” means a smoke alarm that:

(i) in the case of a dwelling unit built before December 29, 2022, and not substantially rehabilitated after December 29, 2022—

(I)(aa) is hardwired; or

(bb) uses 10-year non rechargeable, nonreplaceable primary batteries and—

(AA) is sealed;

(BB) is tamper resistant; and

(CC) contains silencing means; and

(II) provides notification for persons with hearing loss as required by the National Fire Protection Association Standard 72, or any successor standard; or

(ii) in the case of a dwelling unit built or substantially rehabilitated after December 29, 2022, is hardwired.

The new smoke alarm requirement for HOPWA grantees is fully applicable and enforceable by HUD as of December 29, 2024. HOPWA grantees and project sponsors must ensure qualifying smoke alarms are installed as required in all HOPWA-assisted units. This includes units assisted with acquisition, rehabilitation, conversion, lease, and repair of facilities to provide housing and services (24 CFR 574.300(b)(3)); new construction (24 CFR 574.300(b)(4)); project or tenant-based rental assistance (24 CFR 574.300(b)(5)); short-term rent, mortgage, and utility payments (24 CFR 574.300(b)(6)); permanent housing placement (24 CFR 574.300(b)(7)); and operating costs (24 CFR 574.300(b)(8)).

For housing activities subject to the HOPWA Housing Quality Standards (HQS) at 24 CFR 574.310(b) (acquisition, rehabilitation, conversion, lease, and repair of facilities; new construction; project or tenant-based rental assistance; and operating costs), grantees and project sponsors should apply the HOPWA NSPIRE Standards for smoke alarms in Table 48.

For housing activities not subject to HQS requirements (STRMU and PHP), grantees and project sponsors should still apply the HOPWA NSPIRE Standards for smoke alarms in Table 48, but may rely on the self-certification of the tenant or owner that the dwelling unit meets the smoke alarm requirements, provided that the grantee or project sponsor develops and provides training, a standard checklist, or other reasonable procedures to make sure the owner or tenant understands and applies the applicable criteria when making the self-certification that smoke alarms are installed as required. The self-certification should be kept in the assisted household's file and document the method(s) used to confirm the presence of a qualifying alarm in the unit.

However, neither the statutory requirement nor this notice preempts or limits the applicability of any State or local law that imposes more stringent standards relating to the installation and maintenance of smoke alarms in housing.

XII. Clarification on Inspections for STRMU and PHP

The NSPIRE rule and the housing quality standards at 24 CFR 574.310(b) do not cover or require inspections for short-term rent, mortgage, and utility payments (24 CFR 574.300(b)(6)); or permanent housing placement (24 CFR 574.300(b)(7)). However, HOPWA grantees must continue to meet CO detection requirements for housing assisted with Short-Term Rent, Mortgage, and Utility Assistance (STRMU) and Permanent Housing Placement (PHP) as required through Section 101 of Title I of Division Q of the Consolidated Appropriations Act, 2021, Public Law 116-260, div. Q, title I, § 101 (2020), which amended the HOPWA statute to require CO alarms or detectors in HOPWA-assisted dwelling units. As of December 27, 2022, HOPWA grantees and project sponsors are required to ensure CO alarms or detectors are installed as required in all HOPWA-assisted units. Additional information on the CO detection requirements for STRMU and PHP can be found in Section X of this Notice.

Further, effective December 29, 2024, HOPWA grantees must meet smoke detection requirements for housing assisted with STRMU and PHP as required through Section 601 of Title VI of Division AA of the Consolidated Appropriations Act, 2023, Public Law 117-328 (2022) which amended the HOPWA statute to require qualifying smoke alarms in HOPWA-assisted dwelling units. Additional information on the smoke alarm requirements for STRMU and PHP can be found in Section XI of this notice.

XIII. Contact Information

Questions concerning this notice may be directed to the HUD Office of HIV/AIDS Housing's email box at HOPWA@hud.gov.

David C. Woll Jr.,
Principal Deputy Assistant Secretary for Community Planning and Development.

[FR Doc. 2025-14743 Filed 8-4-25; 8:45 am]

BILLING CODE 4210-67-P